DEPARTMENT OF ENERGY

Federal Energy Regulatory Commission

[Project No. 3586-006]

Rocky River Hydro, LLC; Notice of Application Accepted for Filing, Soliciting Comments, Motions To Intervene, and Protests

Take notice that the following hydroelectric application has been filed with the Commission and is available for public inspection:

a. Type of Proceeding: Application for surrender of exemption.

b. Project No.: 3586-006.

c. Date Filed: December 26, 2017.

d. Exemptee: Rocky River Hydro, LLC.

e. Name of Project: Rocky River Project No. 3586.

f. Location: The project is located on the Rocky River, upstream of its confluence with the Deep River, in Chatham County, North Carolina.

g. Filed Pursuant to: 18 CFR 4.102.

h. Exemptee Contact: Timothy Dean Sweeney, Member/Manager, Rocky River Hydro, LLC, 3409 Birk Bluff Court, Cary, NC 27518; or, Aaron Aho, Unique Places, P.O. Box 52357, Durham, NC 27717.

i. FERC Contact: Marybeth Gay, (202) 502-6125, Marybeth.Gay@ferc.gov.

j. Deadline for filing comments, interventions, protests, and recommendations is 30 days from the issuance date of this notice by the Commission. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. Please include the project number (P-3586-006) on any comments, motions to intervene, protests, or recommendations filed.

k. Description of Request: Rocky River Hydro, LLC (exemptee), through its representative, Unique Places, LLC proposes to surrender the exemption for the Rocky River Project and decommission the project facilities. Decommissioning would involve disconnecting all utilities at the project, removing the generator, turbine, and control equipment, and demolishing the powerhouse, dam, and embankments. Metal and some other material would be properly disposed of off-site, and some material would be used in bank stabilization in the demolition area. The proposed decommissioning work is an element of a project developed with state and federal resource agencies to restore critical habitat for the federally endangered Cape Fear shiner.

l. Locations of the Application: A copy of the application is available for inspection and reproduction at the Commission's Public Reference Room, located at 888 First Street, NE, Room 2A, Washington, DC 20426, or by calling (202) 502-8371. This filing may also be viewed on the Commission's website at http://www.ferc.gov/docs-filing/efiling.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate the temporary variance that is the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: January 16, 2018.
Kimberly D. Bose,
Secretary.

[FR Doc. 2018-01015 Filed 1-19-18; 8:45 am]

BILLING CODE 6717-01-P